DEPARTMENT OF VETERANS AFFAIRS

Research Advisory Committee on Gulf War Veterans' Illnesses, Notice of Meeting

The Department of Veterans Affairs (VA) gives notice under the Federal Advisory Committee Act, 5 U.S.C. app.2, that the Research Advisory Committee on Gulf War Veterans' Illnesses (RAC-GWVI) will meet by teleconference on January 27, 2022. The open session will convene at 11:00 a.m. (EST) and end at 4:00 p.m. (EST). The open session will be available to the public by connecting to: Webex URL: https://veteransaffairs.webex.com/veteransaffairs/j.php?MTID=ma60df771e4c2c1ecda24b0b6290b32d4. Or, Join by phone: 1-404-397-1596 USA Toll Number or 1-833-558-0712 Toll-free Number; Meeting number (access code): 2761 607 5692. Meeting password: GWVets1990!

The purpose of the Committee is to provide advice and make recommendations to the Secretary of Veterans Affairs on proposed research studies, research plans, and research strategies relating to the health consequences of military service in the Southwest Asia Theater of operations during the Gulf War in 1990-1991.

The Committee will review VA program activities related to Gulf War Veterans' illnesses and updates on relevant scientific research published since the last Committee meeting. This meeting will focus on the effects of environmental and military exposures on genetics, epigenetics and Gulf War Veteran health. Public comment will be open starting at 3:30 p.m. (EST).

The meeting will include time reserved for public comments 30 minutes before the meeting closes. Individuals who wish to address the Committee may submit a 1-2 page summary of their comments for inclusion in the official meeting record. Members of the public may submit written statements for the Committee's review or seek additional information by contacting Dr. Karen Block, Designated Federal Officer, at 202-443-5600, or at Karen.Block@va.gov.

Dated: January 3, 2022.
LaTonya L. Small,
Federal Advisory Committee Management Officer.

[FR Doc. 2022-00043 Filed 1-5-22; 8:45 am]

BILLING CODE P